DEPARTMENT OF THE TREASURY

Bureau of Alcohol, Tobacco and Firearms

27 CFR Part 178

[Notice No. 935]

RIN: 1512-AB93

Implementation of Public Law 105-277, Omnibus Consolidated and Emergency Supplemental Appropriations Act, 1999, Relating to Firearms Disabilities for Nonimmigrant Aliens, and Requirement for Import Permit for Nonimmigrant Aliens Bringing Firearms and Ammunition Into the United States (2001R-332P)

AGENCY: Bureau of Alcohol, Tobacco and Firearms (ATF), Department of the Treasury.

ACTION: Proposed rulemaking cross-referenced to temporary regulations.

SUMMARY: In the same issue, but a separate part of this Federal Register, we are issuing a temporary rule amending the regulations to implement the provisions of Public Law 105-277, Omnibus Consolidated and Emergency Supplemental Appropriations Act, 1999. These regulations implement the law by prohibiting, with certain exceptions, the transfer to and possession of firearms and ammunition by aliens in the United States in a nonimmigrant classification. In addition, we are amending the regulations to give the Secretary of the Treasury or his delegate the authority to require nonresidents to obtain an import permit in order to bring firearms and ammunition into the United States for hunting or sporting purposes. In the interest of national security and pubic safety, ATF will require nonimmigrant aliens to obtain import permits for all importations of firearms and ammunition into the United States (except for those exempt importations specified in the regulations) as of the effective date of the temporary rule. The temporary regulations also serve as the text of this notice of proposed rulemaking for final regulations.

DATES: Written comments must be received on or before May 6, 2002.

ADDRESSES: Send written comments to: Chief, Regulations Division; Bureau of Alcohol, Tobacco and Firearms; P.O. Box 50221; Washington, DC 20091-0221; ATTN: Notice No. 935. Written comments must be signed, and may be of any length.

E-mail comments may be submitted to: nprm@atfhq.atf.treas.gov. E-mail comments must contain your name, mailing address, and e-mail address. They must also reference this notice number and be legible when printed on not more than three pages 8½″ × 11″ in size. We will treat e-mail as originals and we will not acknowledge receipt of e-mail. See the Public Participation section at the end of this notice for requirements for submitting written comments by facsimile.

FOR FURTHER INFORMATION CONTACT: James P. Ficaretta, Regulations Division, Bureau of Alcohol, Tobacco and Firearms, 650 Massachusetts Avenue, NW., Washington, DC 20226 (202-927-8210).

SUPPLEMENTARY INFORMATION:

How This Document Complies With the Federal Administrative Requirements for Rulemaking

A. Executive Order 12866

We have determined that this proposed regulation is not a significant regulatory action as defined in E.O. 12866. Therefore, a regulatory assessment is not required.

B. Regulatory Flexibility Act

We hereby certify that this proposed regulation, if adopted as a final rule, will not have a significant economic impact on a substantial number of small entities. The paperwork burdens associated with compliance with the proposed regulation are not significant. Accordingly, a regulatory flexibility analysis is not required.

C. Paperwork Reduction Act

The collections of information contained in this notice of proposed rulemaking have been submitted to the Office of Management and Budget for review in accordance with the Paperwork Reduction Act of 1995 (44 U.S.C. 3507(d)). Comments on the collections of information should be sent to the Office of Management and Budget, Attention: Desk Officer for the Department of the Treasury, Bureau of Alcohol, Tobacco and Firearms, Office of Information and Regulatory Affairs, Washington, DC, 20503, with copies to the Chief, Document Services Branch, Room 3110, Bureau of Alcohol, Tobacco and Firearms, 650 Massachusetts Avenue, NW., Washington, DC 20226. Comments are specifically requested concerning:

Whether the proposed collections of information are necessary for the proper performance of the function of the Bureau of Alcohol, Tobacco and Firearms, including whether the information will have practical utility;

The accuracy of the estimated burden associated with the proposed collections of information (see below);

How the quality, utility, and clarity of the information to be collected may be enhanced; and

How the burden of complying with the proposed collections of information may be minimized, including through the application of automated collection techniques or other forms of information technology.

The collections of information in this proposed regulation are in 27 CFR 178.44, 178.45, 178.120, and 178.124. This information is required to implement the provisions of Public Law 105-277, Omnibus Consolidated and Emergency Supplemental Appropriations Act, 1999, relating to firearms disabilities for nonimmigrant aliens. The likely respondents are individuals and businesses.

Estimated total annual reporting and/or recordkeeping burden:1,210 hours.

Estimated average annual burden hours per respondent and/or recordkeeper: .10 hour (6 minutes).

Estimated number of respondents and/or recordkeepers: 12,100.

Estimated annual frequency of responses: 12,100.

An agency may not conduct or sponsor, and a person is not required to respond to, a collection of information unless it displays a valid control number assigned by the Office of Management and Budget.

Public Participation

We are requesting comments on the temporary regulations from all interested persons. We are also specifically requesting comments on the clarity of the temporary rule and how it may be made easier to understand.

Comments received on or before the closing date will be carefully considered. Comments received after that date will be given the same consideration if it is practical to do so, but assurance of consideration cannot be given except as to comments received on or before the closing date.

We will not recognize any material in comments as confidential. Comments may be disclosed to the public. Any material which the commenter considers to be confidential or inappropriate for disclosure to the public should not be included in the comment. The name of the person submitting a comment is not exempt from disclosure.

You may submit written comments by facsimile transmission to (202) 927-8602. Facsimile comments must:

• Be legible;

• Reference this notice number;

• Be 8½″ × 11″ in size;

• Contain a legible written signature; and

• Be not more than three pages long.

We will not acknowledge receipt of facsimile transmissions. We will treat facsimile transmissions as originals.

Any interested person who desires an opportunity to comment orally at a public hearing should submit his or her request, in writing, to the Director within the 90-day comment period. The Director, however, reserves the right to determine, in light of all circumstances, whether a public hearing is necessary.

The temporary regulations in this issue of the Federal Register amend the regulations in 27 CFR part 178. For the text of the temporary regulations, see T.D. ATF-471 published in the same separate part of this issue of the Federal Register.

Drafting Information

The author of this document is James P. Ficaretta, Regulations Division, Bureau of Alcohol, Tobacco and Firearms.

Signed: January 15, 2002.
Bradley A. Buckles,
Director.
Approved: January 15, 2002.
Timothy E. Skud,
Acting Deputy Assistant Secretary, Regulatory, Tariff and Trade Enforcement.

[FR Doc. 02-2715 Filed 2-1-02; 8:45 am]

BILLING CODE 4810-31-P